DEPARTMENT OF ENERGY

Federal Energy Regulatory Commission

[Project No. 3255-016]

Lyonsdale Associates, LLC; Notice Soliciting Scoping Comments

Take notice that the following hydroelectric application has been filed with the Commission and is available for public inspection.

a. Type of Application: New Major License.

b. Project No.: 3255.

c. Date Filed: May 29, 2024.

d. Applicant: Lyonsdale Associates, LLC.

e. Name of Project: Lyonsdale Hydroelectric Project.

f. Location: On the Moose River in Lewis County, New York.

g. Filed Pursuant to: Federal Power Act, 16 U.S.C. 791(a)-825(r).

h. Applicant Contact: David H. Fox, Senior Director, Regulatory Affairs, Eagle Creek Renewable Energy, LLC, 7315 Wisconsin Ave, Suite 1100W, Bethesda, MD 20814; telephone at (201) 306-5616; email at david.fox@eaglecreekre.com.

i. FERC Contact: Kelly Wolcott, Project Coordinator, Great Lakes Branch, Division of Hydropower Licensing; telephone at (202) 502-6480; email at kelly.wolcott@ferc.gov.

j. Deadline for Filing Scoping Comments: February 16, 2025.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Lyonsdale Hydroelectric Project (P-3255-016).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. Project Description: The Lyonsdale Project includes a dam that consists of: (1) a 27.5-foot-long intake structure with two 10.5-foot-long slide gates that are equipped with a trashrack with 2.6-inch clear bar spacing; (2) a 57-foot-long non-overflow section with a 5-foot-long debris sluice gate; (3) a 149-foot-long section that includes: (a) a 21.5-foot-long spillway with 1.7-foot-high flashboards that have a crest elevation of 1,065.9 feet National Geodetic Vertical Dam of 1929 (NGVD 29); (b) a 28.5-foot-long section with a 20.5-foot-long Pelican gate; and (c) an 85.3-foot-long spillway with 3-foot-high flashboards that have a crest elevation of 1,065.9 feet NGVD 29; (4) a 39.5-foot-long overflow section that includes a 33.5-foot-long spillway with 3-foot-high flashboards that have a crest elevation of 1,065.9 feet NGVD 29; (5) a 185-foot-long earthen embankment; and (6) a 48-foot-long overflow section that includes a 38-foot-long spillway with 3-foot-high flashboards that have a crest elevation of 1,065.9 feet NGVD 29.

The dam creates an impoundment that has a surface area of 9 acres at an elevation of 1,065.9 feet NGVD 29. The impoundment includes a 100-foot-long forebay. From the forebay, water flows through the two sluice gates of the intake structure to a 52-foot-long penstock and a 26-foot-long penstock that convey water to two 1.5-MW vertical Kaplan turbine-generators located in a 35-foot-wide, 58-foot-long powerhouse, for a total installed capacity of 3 MW. Water is discharged from the turbines to an approximately 450-foot-long tailrace that discharges to the Moose River.

The project creates the following bypassed reach segments: (1) an approximately 200-foot-long southern segment; and (2) an approximately 70-foot-long segment that bifurcates into an approximately 350-foot-long middle segment and an approximately 580-foot-long northern segment.

Electricity generated at the project is transmitted to the electric grid via two 400-foot-long, 4.16-kilovolt (kV) generator lead lines and a 4.16/115-kV step-up transformer.

The minimum and maximum hydraulic capacities of the powerhouse are 260 and 1,400 cubic feet per second (cfs), respectively. The average annual energy production of the project from 2016 through 2023, was 10,745 megawatt-hours.

Existing project recreation facilities include: (1) an access trail on the north shoreline of the impoundment that consists of an approximately 1,000-foot-long “North Bank Recreation Trail” and an approximately 1,000-foot-long portage trail; and (2) a parking area on the 185-foot-long earthen embankment.

Lyonsdale Associates operates the project in a run-of-river mode by maintaining the surface elevation of the impoundment at the flashboard crest elevation of 1,065.9 feet NGVD 29.

Lyonsdale Associates proposes to: (1) continue operating the project in a run-of-river mode; (2) release a minimum flow of 33 cfs or inflow, whichever is less, to the bypassed reach from April 1 through November 30; (3) implement an Invasive Species Management Plan and a Bat and Eagle Management Plan filed in Appendix C of the license application; (4) consult with the New York State Historic Preservation Office (SHPO) on the need for any measures prior to any ground-disturbing activities; and (5) stop work and consult with the New York SHPO on the need for any measures if previously unidentified cultural resources are discovered during any future construction activities at the project.

Lyonsdale Associates also proposes measures for providing recreation opportunities, including: (1) continue maintaining the access trail on the north shoreline of the impoundment, including the North Bank Recreation Trail and portage trail; (2) maintain an existing impoundment access site, portage put-in site, picnic area, and South Bank Recreation Area as project recreation facilities; (3) update and maintain project recreation signs; (4) install new directional signs for the portage route and North Bank Recreation Trail; and (5) install barriers at the picnic area and portage trail to deter all-terrain vehicle access.

m. A copy of the application can be viewed on the Commission's website at https://www.ferc.gov using the “eLibrary” link. Enter the project's docket number excluding the last three digits in the docket number field to access the document (P-3255). For assistance, contact FERC Online Support.

You may also register at https://ferconline.ferc.gov/FERCOnline.aspx to be notified via email of new filings and issuances related to this or other pending projects. For assistance, please contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

n. Scoping Process:

Pursuant to the National Environmental Policy Act (NEPA), Commission staff will prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

At this time, we do not anticipate holding on-site scoping meetings. Instead, we are soliciting written comments and suggestions on the preliminary list of issues and alternatives to be addressed in the NEPA document, as described in scoping document 1 (SD1), issued January 16, 2025.

Copies of the SD1 outlining the proposed project and subject areas to be addressed in the NEPA document were distributed to the parties on the Commission's mailing list and the applicant's distribution list. Copies of SD1 may be viewed on the web at http://www.ferc.gov using the “eLibrary” link (see item m above).

Dated: January 17, 2025.
Debbie-Anne A. Reese,
Secretary.

[FR Doc. 2025-01738 Filed 1-24-25; 8:45 am]

BILLING CODE 6717-01-P